DEPARTMENT OF TRANSPORTATION

National Highway Traffic Safety Administration

Petition for Exemption From the Vehicle Theft Prevention Standard; Ford Motor Company

AGENCY: National Highway Traffic Safety Administration (NHTSA). Department of Transportation (DOT).

ACTION: Grant of petition for exemption.

SUMMARY: This document grants in full the Ford Motor Company's (Ford) petition for an exemption of the Fusion vehicle line in accordance with 49 CFR Part 543, Exemption from the Theft Prevention Standard. This petition is granted because the agency has determined that the antitheft device to be placed on the line as standard equipment is likely to be as effective in reducing and deterring motor vehicle theft as compliance with the parts-marking requirements of the 49 CFR Part 541, Federal Motor Vehicle Theft Prevention Standard.

DATES: The exemption granted by this notice is effective beginning with the 2012 model year.

FOR FURTHER INFORMATION CONTACT: Ms. Carlita Ballard, Office of International Policy, Fuel Economy and Consumer Programs, NHTSA, 1200 New Jersey Avenue, SE., Washington, DC 20590. Ms. Ballard's telephone number is (202) 366-0846. Her fax number is (202) 493-2990.

SUPPLEMENTARY INFORMATION: In a petition dated September 21, 2010, Ford requested an exemption from the parts-marking requirements of the Theft Prevention Standard (49 CFR Part 541) for the MY 2012 Ford Fusion vehicle line. The petition requested an exemption from parts-marking pursuant to 49 CFR Part 543, Exemption from Vehicle Theft Prevention Standard, based on the installation of an antitheft device as standard equipment for an entire vehicle line.

Under § 543.5(a), a manufacturer may petition NHTSA to grant exemptions for one vehicle line per model year. Ford has petitioned the agency to grant an exemption for its Fusion vehicle line beginning with MY 2012. In its petition, Ford provided a detailed description and diagram of the identity, design, and location of the components of the antitheft device for the Fusion vehicle line. Ford will install its “SecuriLock” passive transponder-based electronic immobilizer antitheft device as standard equipment on the vehicle line. Features of the antitheft device will include an electronic key, ignition lock, and a passive immobilizer. Ford stated that since it's MY 2006 introduction, the Fusion has been equipped with the “SecuriLock” device as standard equipment. The device does not incorporate an audible or visual alarm as standard equipment however, Ford stated that the Fusion vehicles will come equipped with a separate perimeter alarm system that utilizes both a visible and audible alarm if unauthorized access is attempted. Ford's submission is considered a complete petition as required by 49 CFR 543.7, in that it meets the general requirements contained in § 543.5 and the specific content requirements of § 543.6.

Ford stated that the devices integration of the transponder into the normal operation of the ignition key assures activation of the system. When the ignition key is turned to the “start” position, the transceiver module reads the ignition key code and transmits an encrypted message to the cluster. Validation of the key is determined and start of the engine is authorized once a separate encrypted message is sent to the powertrain control module/transmission control module (PCM/TCM). The powertrain will function only if the key code matches the unique identification key code previously programmed into the PCM. If the codes do not match, the engine starter, ignition and fuel systems will be disabled. Ford stated that the device functions automatically each time an engine start sequence occurs. Therefore, no owner/operator actions are required to deactivate the device.

In addressing the specific content requirements of 543.6, Ford provided information on the reliability and durability of its proposed device. To ensure reliability and durability of the device, Ford conducted tests based on its own specified standards. Ford provided a detailed list of the tests conducted and believes that the device is reliable and durable since the device complied with its specified requirements for each test.

Ford stated that incorporation of several features in both devices further support reliability and durability of the device. Specifically, some of those features include: encrypted communication between the transponder, control function and the power train control module; no moving parts; inability to mechanically override the device to start the vehicle; and the body control module/remote function actuator and the power train control module share security data that form matched modules during vehicle assembly that if separated from each other will not function in other vehicles. Ford stated that the Fusion will be equipped with several other standard antitheft features (i.e., a hood release, counterfeit resistant VIN plates, secondary VINs inscribed on the body, and an exterior key lock that will be located only on the driver door to limit cabin access). Ford also stated that the device's encrypted transponder technology will make key duplication virtually impossible.

Additionally, Ford noted that with the prevalence of electronic engine immobilizer systems on nearly all new retail vehicles, the overall theft rates have been decreasing and the theft rate for the Fusion vehicles have remained very close to the overall theft rate trend. Specifically, the agency's data show that theft rates for the Fusion for MYs 2006-2008 are 1.7314, 1.8161 and 1.8797 respectively. Using an average of 3 MYs data (2006-2008), the theft rate for the Fusion vehicle line is well below the median at 1.8090.

Ford compared the effectiveness of its antitheft device with devices which NHTSA has previously determined to be as effective in reducing and deterring motor vehicle theft as would compliance with the parts-marking requirements of Part 541. Specifically, Ford provided information on the reduction in the theft rate for other vehicle lines equipped with the “SecuriLock” device. Ford's “SecuriLock” device was first introduced as standard equipment on it's MY 1996 Mustang GT and Cobra vehicle lines. The “SecuriLock” system was installed on the entire Mustang vehicle line as standard equipment in MY 1997. Ford also stated that the “SecuriLock” device has been installed as standard equipment on all North American Ford, Lincoln and Mercury vehicles except for the F-Super Duty, Econoline and Crown Victoria Police Interceptor vehicles. Ford stated that according to National Insurance Crime Bureau (NICB) theft statistics, the 1997 model year Mustang with “SecuriLock” showed a 70% reduction in theft compared to its MY 1995 Mustang vehicles. Comparatively, Ford stated that there were 149 thefts reported in 1997 and 500 thefts reported in 1995. Ford also stated that the proposed device is very similar in design and implementation to the device offered on the Ford Escape vehicle line. The agency granted Ford's petition for exemption for the Escape vehicle line on April 18, 2008. Ford stated that it believes that the standard installation of the “SecuriLock” device on the Fusion vehicle line would be an effective deterrent against vehicle theft and that the low theft rate experienced by the line in CY 2008 is likely to continue or improve in future years.

The agency agrees that the device is substantially similar to devices in other vehicle lines for which the agency has already granted exemptions. Based on the evidence submitted by Ford, the agency believes that the antitheft device for the Fusion vehicle line is likely to be as effective in reducing and deterring motor vehicle theft as compliance with the parts-marking requirements of the Theft Prevention Standard (49 CFR part 541).

Pursuant to 49 U.S.C. 33106 and 49 CFR 543.7 (b), the agency grants a petition for exemption from the parts-marking requirements of Part 541 either in whole or in part, if it determines that, based upon substantial evidence, the standard equipment antitheft device is likely to be as effective in reducing and deterring motor vehicle theft as compliance with the parts-marking requirements of Part 541. The agency finds that Ford has provided adequate reasons for its belief that the antitheft device for the Ford Fusion vehicle line is likely to be as effective in reducing and deterring motor vehicle theft as compliance with the parts-marking requirements of the Theft Prevention Standard (49 CFR part 541). This conclusion is based on the information Ford provided about its device.

The agency concludes that the device will provide four of the five types of performance listed in § 543.6(a)(3): Promoting activation; preventing defeat or circumvention of the device by unauthorized persons; preventing operation of the vehicle by unauthorized entrants; and ensuring the reliability and durability of the device.

For the foregoing reasons, the agency hereby grants in full Ford's petition for exemption for the Fusion vehicle line from the parts-marking requirements of 49 CFR part 541. The agency notes that 49 CFR part 541, Appendix A-1, identifies those lines that are exempted from the Theft Prevention Standard for a given model year. 49 CFR 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Ford decides not to use the exemption for this line, it must formally notify the agency. If such a decision is made, the line must be fully marked according to the requirements under 49 CFR Parts 541.5 and 541.6 (marking of major component parts and replacement parts).

NHTSA notes that if Ford wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: January 7, 2011.
Joseph S. Carra,
Acting, Associate Administrator for Rulemaking.

[FR Doc. 2011-567 Filed 1-12-11; 8:45 am]

BILLING CODE 4910-59-P